DEPARTMENT OF THE INTERIOR

National Park Service

Notice of Inventory Completion for Native American Human Remains and Associated Funerary Objects from Pima, Santa Cruz and Cochise Counties in the Control of the Coronado National Forest, United States Forest Service, Tucson, AZ; Correction

AGENCY: National Park Service, Interior.

ACTION: Notice; correction.

Notice is here given in accordance with the Native American Graves Protection and Repatriation Act (NAGPRA), 25 U.S.C. 3003, of the completion of an inventory of human remains and associated funerary objects in the control of the U.S. Department of Agriculture, Forest Service, Coronado National Forest, Tucson, AZ, and in the possession of the Arizona State Museum, University of Arizona, Tucson, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number of sites where Native American human remains and associated funerary objects were removed, increases the minimum number of Native American individuals and associated funerary objects from those sites, and also amends the determination of shared group relationships in a Notice of Inventory Completion published in the Federal Register (63 FR 49025-49026, September 18, 1997). Since publication of the notice, Native American human remains and associated funerary objects were found to be removed during the ANAMAX-Rosemont Project from an additional site, and an additional 118 Native American individuals and 1,213 associated funerary objects were discovered in the Arizona State Museum collections.

The notice published in the Federal Register (63 FR 49025-49026, September 18, 1997) is corrected by substituting paragraphs 7-9 with the following:

Between 1979 and 1980, human remains representing 193 individuals were recovered from 11 prehistoric sites within the ANAMAX-Rosemont Project in the Santa Rita Mountains, Coronado National Forest, Pima County, AZ, during legally authorized excavations by the Arizona State Museum, University of Arizona. No known individuals were identified. The 1,318 associated funerary objects include ceramic bowls and jars; pottery sherds; shell, bone and turquoise ornaments; bone and stone tools; projectile point and groundstone.

Based on architecture, material culture and site organization, the 11 sites within the ANAMAX-Rosemont Project have been identified as Pre-Classic Hohokam village occupations dating between A.D. 450 and 1150. Continuities of ethnographic materials, technology and architecture indicate the affiliation of Hohokam sites in the area of the ANAMAX-Rosemont Project with present-day O'odham cultures. The oral traditions of the Ak-Chin Indian Community of the Maricopa (Ak Chin) Indian Reservation, Arizona; Gila River Indian Community of the Gila River Indian Reservation, Arizona; Salt River Pima-Maricopa Indian Community of the Salt River Reservation, Arizona; and Tohono O'odham Nation, Arizona, support the cultural affiliation of these four Indian tribes with Hohokam sites in this area of southeastern Arizona. The oral traditions of the Hopi Tribe of Arizona and Zuni Tribe of the Zuni Reservation, New Mexico indicate some cultural ties or relationships to certain portions of southeastern Arizona in the late Post-Classic Period (A.D. 1300-1450). While the Hopi Tribe and Zuni Tribe have cultural ties to certain portions of southeastern Arizona in the late Pre-Classic Period, the Ak-Chin Indian Community of the Maricopa (Ak Chin) Indian Reservation, Arizona; Gila River Indian Community of the Gila River Indian Reservation, Arizona; Salt River Pima-Maricopa Indian Community of the Salt River Reservation, Arizona; and Tohono O'odham Nation, Arizona have a closer cultural relationship and affiliation with these Pre-Classic Period sites within the ANAMAX-Rosemont Project.

Officials of the U.S. Department of Agriculture, Forest Service, Coronado National Forest have determined that, pursuant to 25 U.S.C. 3001 (9-10), the human remains described above represent the physical remains of 193 individuals of Native American ancestry. Officials of the Officials of the U.S. Department of Agriculture, Forest Service, Coronado National Forest also have determined that, pursuant to 25 U.S.C. 3001 (3)(A), the 1,318 objects described above are reasonably believed to have been placed with or near individual human remains at the time of death or later as part of the death rite or ceremony. Lastly, officials of the Officials of the U.S. Department of Agriculture, Forest Service, Coronado National Forest have determined that, pursuant to 25 U.S.C. 3001 (2), there is a relationship of shared group identity that can be reasonably traced between the Native American human remains and associated funerary objects and the Ak-Chin Indian Community of the Maricopa (Ak Chin) Indian Reservation, Arizona; Gila River Indian Community of the Gila River Indian Reservation, Arizona; Hopi Tribe of Arziona; Salt River Pima-Maricopa Indian Community of the Salt River Reservation, Arizona; Tohono O'odham Nation, Arizona; and Zuni Tribe of the Zuni Reservation, New Mexico.

Representatives of any other Indian tribe that believes itself to be culturally affiliated with the human remains and associated funerary objects should contact Dr. Frank E. Wozniak, NAGPRA Coordinator, Southwestern Region, USDA Forest Service, 333 Broadway Blvd., SE, Albuquerque, NM 87102, telephone (505) 842-3238, before April 13, 2009. Repatriation of the human remains and associated funerary objects to the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The U.S. Department of Agriculture, Forest Service, Coronado National Forest is responsible for notifying the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: February 4, 2009
Sherry Hutt,
Manager, National NAGPRA Program.

[FR Doc. E9-5336 Filed 3-11-09; 8:45 am]

BILLING CODE 4312-50-S